DEPARTMENT OF VETERANS AFFAIRS

[OMB Control No. 2900-0675]

Agency Information Collection: Emergency Submission for OMB Review; Comment Request

AGENCY: Center for Veterans Enterprise, Department of Veterans Affairs.

ACTION: Notice.

SUMMARY: In compliance with the Paperwork Reduction Act (PRA) of 1995 (44 U.S.C. 3501-3521), this notice announces that the United States Department of Veterans Affairs (VA), has submitted to the Office of Management and Budget (OMB) the following emergency proposal for the collection of information under the provisions of the Paperwork Reduction Act (44 U.S.C. 3507(j)(1)). The reason for the emergency clearance is to implement Public Law 109-461, Section 8127, the “Veterans Benefits, Health Care and Information Technology Act of 2006” which mandated Federal agencies to implement a verification program. VA will be requesting social security number or VA file/claim number to verify small businesses as veteran-owned or service-disabled veteran-owned. VA is requesting OMB to act on this emergency clearance request by May 25, 2007.

DATES: Comments must be submitted on or before May 18, 2007.

ADDRESSES: Submit written comments on the collection of information through www.Regulations.gov; or to VA's OMB Desk Officer, OMB Human Resources and Housing Branch, New Executive Office Building, Room 10235, Washington, DC 20503, (202) 395-7316. Please refer to “OMB Control No. 2900-0675” in any correspondence.

FOR FURTHER INFORMATION CONTACT: Denise McLamb, Records Management Service (005G2), Department of Veterans Affairs, 810 Vermont Avenue, NW., Washington, DC 20420, (202) 565-8374, fax (202) 565-7870 or e-mail denise.mclamb@mail.va.gov. Please refer to “OMB Control No. 2900-0675.”

SUPPLEMENTARY INFORMATION: Title: VetBiz Vendor Information Pages and VA Form 0877.

OMB Control Number: 2900-0675.

Type of Review: Revision of a currently approved collection.

Abstract: The Vendor Information Pages (VIP) will be used to assist federal agencies in identifying small businesses owned and controlled by veterans and service-connected disable veterans. This information is necessary to ensure that veteran owned businesses are given the opportunity to participate in Federal contracts and receive contract solicitations information automatically. VA will use the data collected on VA Form 0877 to verify small businesses as veteran-owned or service-disabled veteran-owned.

Affected Public: Business or other for-profit, and Individuals or households.

Estimated Annual Burden: 5,000 hours.

Estimated Average Burden per Respondent:

VetBiz Vendor Information Pages—20 minutes.

VA Form 0877—5 minutes.

Frequency of Response: On occasion.

Estimated Number of Respondents: 12,000.

Dated: April 5, 2007.
By direction of the Secretary.
Denise McLamb,
Program Analyst Records Management Service.

[FR Doc. E7-7336 Filed 4-17-07; 8:45 am]

BILLING CODE 8320-01-P